DEPARTMENT OF AGRICULTURE

Food and Nutrition Service

Nominations Open for the Vacancies on the National Advisory Council on Maternal, Infant and Fetal Nutrition

AGENCY: Food and Nutrition Service (FNS), USDA.

ACTION: Nominations open for the vacancies on the National Advisory Council on Maternal, Infant and Fetal Nutrition.

SUMMARY: FNS is seeking nominations for 9 vacancies on the National Advisory Council on Maternal, Infant and Fetal Nutrition (Council). The Council is composed of 24 members. Members of the Council from outside USDA and the Department of Health and Human Services (HHS) are appointed for 3-year terms. State and local officials may serve only during their official tenure. Parent participants are appointed for 2-year terms. Members appointed from USDA and HHS serve at the pleasure of their respective Secretaries.

The Council studies the operation of the Special Supplemental Nutrition Program for Women, Infants and Children (WIC), and related programs such as the Commodity Supplemental Food Program (CSFP). Categories of membership are specified by law. To assure a balance of differing views, Council members are drawn from Federal, State and local governments, industry and organizations with a common interest in the management of WIC and CSFP, including parent participants in both programs.

The vacant positions include:

State WIC Program Director

The individual responsible for administering the WIC Program at the State level. Has operational knowledge about all aspects of WIC management.

State CSFP Director

The individual responsible for administering the CSFP at the State level. Has operational knowledge about all aspects of CSFP management.

State WIC Program Fiscal Director

The individual responsible for the administration and monitoring of WIC grants at the State and local levels. This includes monitoring compliance of State and local budgets and expenditures with fiscal policies and procedures.

Local WIC Program Project Director in a Rural Area

The individual responsible for administering a local level WIC Program in a rural area. Has operational knowledge about all aspects of the WIC Program.

Representative of an Organization Serving Migrants

Individual from an organization that either directly or indirectly provides services to migrants or advocates through legislative efforts, public education, litigation and research to improve the health and welfare of migrants.

WIC Parent Participant—2 Positions

A pregnant, postpartum or breastfeeding woman, or the parent/guardian of an infant and/or child participating in the WIC Program.

CSFP Parent Participant

A pregnant, postpartum or breastfeeding woman, or the parent/guardian of an infant and/or child participating in CSFP.

Representative of a Non-profit Public Interest Organization

An individual from an organization that serves the public interest such as a advocacy or community action group or a food bank.

Section 17(k) of the Child Nutrition Act of 1966, as amended (42 U.S.C. 1786), mandates the Council and authorizes the Secretary of Agriculture to appoint the members. The White House Liaison Office is responsible for vetting every candidate who applies for membership to the Council. In order to be appointed by the Secretary of Agriculture to serve on a board, council or committee, each applicant must clear all stages of the vetting process. Vetting is a comprehensive personal and professional background investigation that specifically includes, but is not limited to, an analysis of each candidate's criminal history, bankruptcy filings, liens and judgments, affiliations and associations, lobbyist status, and prior involvement with USDA.

This process is used to ensure that the finest candidates are selected to represent the interests of the United States Department of Agriculture. Individuals and organizations who wish to nominate experts for this or any other USDA advisory committee should submit a letter to the Secretary listing these individuals' names and business address, phone, and email contact information. These individuals may be contacted now or in the future to determine their interest in serving as a committee member.

Candidates who wish to be considered for membership on the Council should submit an AD-755 application form and resume to the Secretary of Agriculture. Cover letters should be addressed to the Secretary of Agriculture. All nomination materials should be mailed in a single, complete package and postmarked by October 27, 2014 to: Thomas Vilsack, Secretary, U.S. Department of Agriculture, 1400 Independence Avenue SW., Washington, DC 20250, at the attention of Robin Young, DFO, USDA/FNS/SFPD. The application form and more information about advisory committees can be found at http://www.usda.gov/wps/portal/usda/usdahome?contentidonly=true&contentid=advisory_committees.xml.

FNS has special interest in assuring that women, minority groups, and the physically disabled are adequately represented on these advisory committees. We encourage and welcome nominations for qualified female, minority, or disabled candidates.

Dated: September 19, 2014.
Yvette S. Jackson,
Acting Administrator, Food and Nutrition Service.

[FR Doc. 2014-22881 Filed 9-25-14; 8:45 am]

BILLING CODE 3410-30-P